DEPARTMENT OF ENERGY

Federal Energy Regulatory Commission

[Docket No. RP03-219-002]

Discovery Gas Transmission LLC; Notice of Withdrawal of Filing and Notice of Additional Tariff Sheets

February 6, 2003.

Take notice that on February 3, 2003., Discovery Gas Transmission LLC (Discovery) hereby respectfully (1) requests withdrawal of Substitute First Revised Sheet No. 186 filed on January 13, 2003. in Docket No. RP03-219-001 and (2) tenders for filing as part of its FERC Gas Tariff, Original Volume No. 1, Third Revised Sheet No. 101 and Second Substitute First Revised Sheet No. 186, to be effective February 1, 2003.

Discovery states that this filing is made in response to the Commission's letter order issued in the above-captioned proceeding on January 30, 2003.

Discovery further states that copies of the filing have been mailed to each of its customers, interested State Commissions and other interested persons.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: February 18, 2003.

Magalie R. Salas,
Secretary.

[FR Doc. 03-3541 Filed 2-12-03; 8:45 am]

BILLING CODE 6717-01-P